DEPARTMENT OF ENERGY

Federal Energy Regulatory Commission

[Docket No. AC05-17-000, et al.]

Baltimore Gas & Electric Company, et al.; Electric Rate and Corporate Filings

December 14, 2004.

The following filings have been made with the Commission. The filings are listed in ascending order within each docket classification.

1. Baltimore Gas & Electric Company

[Docket No. AC05-17-000]

Take notice that on December 10, 2004, Baltimore Gas & Electric Company (BGE) tendered for filing proposed journal entries required to reclassify high voltage assets and accumulated depreciation, from distribution plant accounts to transmission plant accounts.

Comment Date: 5 p.m. Eastern Time on January 3, 2005.

2. Madison Windpower, LLC

[Docket No. EG00-103-000]

Take notice that on December 10, 2004, Madison Windpower, LLC filed with the Federal Energy Regulatory Commission a Change in Status regarding its application for determination of exempt wholesale generator status pursuant to part 365 of the Commission's regulations.

Comment Date: 5 p.m. Eastern Time on January 3, 2005.

3. Northeast Utilities Service Company, Select Energy, Inc., Select Energy New York, Inc., Northeast Generation Company

[Docket Nos. ER96-496-012, ER99-14-007, ER02-556-004, ER99-4463-003]

Take notice that on December 9, 2004, Northeast Utilities Service Company (NUSCO), on behalf of The Connecticut Light and Power Company, Western Massachusetts Electric Company, Holyoke Water Power Company, Holyoke Power and Electric Company, and Public Service of New Hampshire, Select Energy, Inc., Select Energy New York, Inc., and Northeast Generation Company (collectively, Applicants) jointly filed with the Commission an amendment to the market power analysis they jointly submitted on September 27, 2004. NUSCO states that this filing is in response to a request from the Commission Staff dated November 18, 2004.

Comment Date: 5 p.m. Eastern Time on January 3, 2005.

4. New Mexico Electric Marketing, LLC

[Docket No. ER02-77-002]

Take notice that on December 10, 2004, New Mexico Electric Marketing, LLC, (NewMex), submitted for filing with the Commission its triennial updated market analysis and a revision to its Rate Schedule FERC No. 1 to conform the market behavior rules to those set forth in the Commission's order on rehearing issued May 19, 2004 in Docket No EL01-118-003, Investigation of Terms and Conditions of Public Utility Market-Based Rate Authorizations, 107 FERC ¶61,175 (2004).

Comment Date: 5 p.m. Eastern Time on January 3, 2005.

5. New York Independent System Operator, Inc.

[Docket No. ER03-647-006]

Take notice that on December 2, 2004, New York Independent System Operator, Inc. (NYISO) submitted for filing a second annual report on the implementation of the ICAP Demand Curves, and on the withholding behavior under the ICAP Demand Curves in compliance with the Commission's previous order in the Docket No. ER03-647-000.

The NYISO states that it has served a copy of this filing upon all parties that have executed service agreements and the New York State Public Service Commission and the electric utility regulatory agencies in New Jersey and Pennsylvania.

Comment Date: 5 p.m. Eastern Time on December 23, 2004.

6. Empire Connection, LLC

[Docket No. ER03-1353-000]

Take notice that on December 9, 2004, Empire Connection LLC (Empire Connection) tendered for filing a withdrawal of its notice of formation, submission of rate tariff, procedures for implementation of standards of conduct, standards of conduct, and notice of change in status, originally submitted on September 11, 2003.

Comment Date: 5 p.m. Eastern Time on December 30, 2004.

7. Unitil Energy Systems, Inc.

[Docket No. ER05-320-000]

Take notice that on December 9, 2004, Unitil Energy Systems, Inc. (UES) tendered for filing a wholesale market based rate tariff. UES requests an effective date of December 10, 2004.

UES states that a copy of the filing was served on the New Hampshire Public Utilities Commission.

Comment Date: 5 p.m. Eastern Time on December 30, 2004.

8. Mantua Creek Generating Company, L.P.

[Docket No. ER05-321-000]

Take notice that on December 10, 2004, Mantua Creek Generating Company, L.P. (Mantua Creek) submitted a notice of cancellation of FERC Electric Tariff, Original Vol. No. 1, effective September 30, 2004.

Mantua Creek states that its notice of the proposed cancellation has not been served on any party because Mantua Creek Generating Company, L.P. is not currently engaged in any sales of electric power or entered into any power or related contracts with any purchasers.

Comment Date: 5 p.m. Eastern Time on January 3, 2005.

9. Dispersed Generating Company, LLC

[Docket No. ER05-322-000]

Take notice that on December 10, 2004, Dispersed Generating Company, LLC (Dispersed Generating) submitted a notice of cancellation of FERC Electric Tariff, Original Vol. No. 1, effective October 9, 2003 in Docket No. ER04-72-000.

Dispersed Generating states that the notice of the proposed cancellation has not been served on any party because Dispersed Generating Company, LLC is not currently engaged in any sales of electric power or entered into any power or related contracts with any purchasers.

Comment Date: 5 p.m. Eastern Time on January 3, 2005.

10. New England Power Pool

[Docket Nos. OA97-237-018, OA97-608-008, ER97-1079-009, ER97-4421-008, ER97-4421-008, ER98-499-007]

Take notice that on December 10, 2004, the New England Power Pool (NEPOOL) Participants Committee submitted for filing supplemental information. NEPOOL Participants Committee states that this filing supplements and revises NEPOOL's July 30, 2004 information filing related to transmission charges and charges for scheduling, system control and dispatch service calculated and charged to Transmission Customers in accordance with the NEPOOL Open Access Transmission Tariff. The NEPOOL Participants Committee further states that the July 30, 2004 information filing was accepted by the Commission for informational purposes by Commission's letter order issued October 18, 2004. The NEPOOL Participants Committee also states that both filings have been made in compliance with the requirements of the April 5, 1999 settlement agreement.

The NEPOOL Participants Committee states that copies of these materials were sent to the NEPOOL Participants and the New England state governors and regulatory commissions, as well as the parties to the captioned dockets.

Comment Date: 5 p.m. Eastern Time on January 3, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Magalie R. Salas,
Secretary.

[FR Doc. E4-3752 Filed 12-20-04; 8:45 am]

BILLING CODE 6717-01-P